DEPARTMENT OF DEFENSE

Department of the Navy

[Docket ID: USN-2023-HQ-0020]

Proposed Collection; Comment Request

AGENCY: Department of the Navy (DON), Department of Defense (DoD).

ACTION: 60-Day information collection notice.

SUMMARY: In compliance with the Paperwork Reduction Act of 1995, the Naval Health Research Center announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 22, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the DON Information Management Control Officer, 2000 Navy Pentagon, Rm. 4E563, Washington, DC 20350, ATTN: Ms. Sonya Martin, or call 703-614-7585.

SUPPLEMENTARY INFORMATION:

Title; Associated Form; and OMB Number: Challenges of Operational Environments Study; OMB Control Number: 0703-COPE.

Needs and Uses: The Challenges of Operational Environments Study is a longitudinal study that will assess stressors associated with different operational environments and their effect on mental and behavioral health. Because the operational environment of the Commands involved will change over time, the survey that is being submitted for approval has been designed to adapt similarly. The base survey will remain the same at every time point, while separate modules will be added according to a pre-determined phases (i.e., maintenance period, sea trials, homeport shift, deployment, and post-deployment). Because the crew of the ships will change over time and participation is voluntary, some respondents may complete the survey at multiple time points, whereas others may complete it just once.

Affected Public: Individuals or households.

Annual Burden Hours: 4,167.

Number of Respondents: 5,000.

Responses per Respondent: 2.

Annual Responses: 10,000.

Average Burden per Response: 25 minutes.

Frequency: On occasion.

Dated: November 14, 2023.
Aaron T. Siegel,
Alternate OSD Federal Register Liaison Officer, Department of Defense.

[FR Doc. 2023-25794 Filed 11-21-23; 8:45 am]

BILLING CODE 3810-FR-P